DEPARTMENT OF TRANSPORTATION

Federal Aviation Administration

Public Notice for Waiver of Aeronautical Land-Use Assurance

AGENCY: Federal Aviation Administration (FAA), DOT.

ACTION: Notice of intent of waiver with respect to land; French Lick Airport; French Lick, Indiana.

SUMMARY: The FAA is considering a proposal to change a portion of airport land from aeronautical use to non-aeronautical use and to authorize the sale of airport property located at French Lick Airport, French Lick, Indiana. The aforementioned land is not needed for aeronautical use. The proposal consists of 18.606 acres located in the southern section of airport property which is not being used by the airport presently. The land is to be sold to Commissioners of Orange County for the construction of County Road CR 300 South/Airport Road to facilitate access to the airport.

DATES: Comments must be received on or before November 22, 2013.

ADDRESSES: Documents are available for review by appointment at the FAA Airports District Office, Azra Hussain, Program Manager, 2300 E. Devon Avenue, Des Plaines, Illinois 60018 Telephone: (847) 294-8252/Fax: (847) 294-7046 and Zachary D. Brown, French Lick Municipal Airport, 9764 West County Road 375 South, French Lick, Indiana, 47933.

Written comments on the Sponsor's request must be delivered or mailed to: Azra Hussain, Program Manager, Federal Aviation Administration, Airports District Office, 2300 E. Devon Avenue, Des Plaines, Illinois (847) 294-7046.

FOR FURTHER INFORMATION CONTACT: Azra Hussain, Program Manager, Federal Aviation Administration, Airports District Office, 2300 E. Devon Avenue, Des Plaines, Illinois 60018. Telephone Number: (847) 294-8252/FAX Number: (847) 294-7046.

SUPPLEMENTARY INFORMATION: In accordance with section 47107(h) of Title 49, United States Code, this notice is required to be published in the Federal Register 30 days before modifying the land-use assurance that requires the property to be used for an aeronautical purpose.

The subject land consists of two parcels. Parcel 1 (approx. 16.667 acres) was acquired through the Federal Aid to Airport Program dated July 28, 1963 and Parcel 2 (approx. 1.939 acres) was acquired by the sponsor as part of a larger parcel (approx. 9.97 acres) for the nominal sum of One Dollar and zero cents ($1.00) on April 19, 2010. The Commissioners of Orange County intend to purchase the property for a nominal sum of One Dollar and zero cents ($1.00) for the construction of County Road CR 300 South/Airport Road. Construction of the road will facilitate access to the airport. The aforementioned land is not needed for aeronautical use, as shown on the Airport Layout Plan. There are no impacts to the airport by allowing the airport to dispose of the property.

This notice announces that the FAA is considering the release of the subject airport property at French Lick Airport, French Lick, Indiana, subject to easements and covenants running with the land. Approval does not constitute a commitment by the FAA to financially assist in the disposal of the subject airport property nor a determination that all measures covered by the program are eligible for grant-in-aid funding from the FAA. The disposition of proceeds from the sale of the airport property will be in accordance with FAA's Policy and Procedures Concerning the Use of Airport Revenue, published in the Federal Register on February 16, 1999 (64 FR 7696).

Issued in Des Plaines, Illinois on September 30, 2013.
James Keefer,
Manager, Chicago Airports District Office, FAA, Great Lakes Region.

[FR Doc. 2013-24738 Filed 10-22-13; 8:45 am]

BILLING CODE 4910-13-P